INTERNATIONAL TRADE COMMISSION

[USITC SE-18-052]

Sunshine Act Meetings

TIME AND DATE: November 8, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-589 and 731-TA-1394-1395 (Final) (Forged Steel Fittings from China and Italy). The Commission is currently scheduled to complete and file its determinations and views of the Commission by November 19, 2018.

5. Outstanding action jackets: None.

In accordance with Commission policy, subject matter listed above, not disposed of at the scheduled meeting, may be carried over to the agenda of the following meeting.

By order of the Commission.
Issued: October 30, 2018.
Lisa Barton,
Secretary to the Commission.

[FR Doc. 2018-24086 Filed 10-31-18; 11:15 am]

BILLING CODE 7020-02-P